DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than June 15, 2015.

ADDRESSES: Submit your comments to paperwork@hrsa.gov or mail the HRSA Information Collection Clearance Officer, Room 10C-03, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Maternal, Infant, and Childhood Home Visiting (Home Visiting) Program fiscal year (FY) 2015, FY2016, FY2017 Non-Competing Continuation Progress Report for Formula Grant.

OMB No. 0915-0355—Extension.

Abstract: The Maternal, Infant, and Early Childhood Home Visiting (Home Visiting) Program, administered by the Health Resources and Services Administration (HRSA), in close partnership with the Administration for Children and Families (ACF), supports voluntary, evidence-based home visiting services during pregnancy and to parents with young children up to kindergarten entry. The purpose of this formula grant program is to support the delivery of coordinated and comprehensive voluntary early childhood home visiting program services and effective implementation of high-quality evidence-based practices. Fifty states, the District of Columbia, 5 territories, and eligible nonprofit organizations are eligible for formula grants and submit non-competing continuation progress reports annually. There are 56 jurisdictions/entities eligible for formula awards, and 56 formula awards are issued annually.

Need and Proposed Use of the Information: This information collection is needed for grantees to report progress under the Home Visiting Program annually. On March 23, 2010, the President signed into law the Patient Protection and Affordable Care Act (ACA). Section 2951 of the ACA amended title V of the Social Security Act by adding a new section, 511, which authorized the Home Visiting Program (http://frwebgate.access.gpo.gov/cgi-bin/getdoc.cgi?dbname=111_cong_bills&docid=f:h3590enr.txt.pdf, pages 216-225). Congress extended funding for the Home Visiting Program by the Protecting Access to Medicare Act of 2014 (Pub. L. 113-93). A portion of funding provided under this program is awarded to participating states, jurisdictions, and entities by formula.

The information collected will be used to review grantee progress on proposed project plans to assess whether the project is performing adequately to achieve the goals and objectives that were previously approved. This report will also provide implementation plans for the upcoming year, to permit assessment of whether the plan is consistent with the grant as approved, and is expected to, will result in, implementation of a high-quality project that will complement the Home Visiting Program as a whole. Progress Reports are submitted through the Electronic Handbooks. Failure to collect this information would impair federal monitoring and oversight of the use of grant funds in keeping with legislative and policy requirements. Grantees are required to provide a performance narrative with the following sections: Project identifier information; accomplishments and barriers; Home Visiting Program goals and objectives; update on the Home Visiting Program promising approach; implementation of the Home Visiting Program in targeted at-risk communities; progress toward meeting legislatively-mandated reporting on benchmark areas; home visiting quality improvement efforts; and updates on the administration of the Home Visiting Program.

Likely Respondents: Grantees with Home Visiting Formula Awards Awarded in Federal FY 2013-FY 2017.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

The burden estimates presented in the table below are based on consultations with a few states on the guidance. Grantees receive a new formula grant annually and are expected to report on progress annually, so the expectation is that grantees would submit non-competing continuation progress reports four times between federal FY 2015 and FY 2018. Only seven grantees are currently implementing a promising approach and require an annual update on the promising approach.

Information collection | Number of respondents | Number of responses per respondent | Total responses | Hours per response | Total burden hours
Formula Grant Award | 56 | 1 | 56 | 42 | 2,352
Total | 56 | 1 | 56 | 42 | 2,352

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-08707 Filed 4-15-15; 8:45 am]

BILLING CODE 4165-15-P